DEPARTMENT OF HEALTH AND HUMAN SERVICES

Substance Abuse and Mental Health Services Administration

Center for Mental Health Services; Notice of Meeting

Pursuant to Public Law 92-463, notice is hereby given that the Substance Abuse and Mental Health Services Administration (SAMHSA) Center for Mental Health Services (CMHS) National Advisory Council will meet on August 14, 2007 from 2 p.m. to 3 p.m. via teleconference.

The meeting will include the review, discussion and evaluation of grant applications. Therefore the meeting will be closed to the public as determined by the Administrator, SAMHSA, in accordance with Title 5 U.S.C. 552b(c)(6) and 5 U.S.C. App. 2, Section 10(d).

Substantive program information, a summary of the meeting and a roster of Council members may be obtained as soon as possible after the meeting, either by accessing the SAMHSA Committee Web site at http://www.nac.samhsa.gov, or by contacting the CMHS National Advisory Council Executive Secretary, Dianne McSwain (see contact information below).

Committee Name: Substance Abuse and Mental Health Services Administration, Center for Mental Health Services National Advisory Council.

Date/Time/Type: August 14, 2007, from 2 p.m. to 3 p.m.: Closed.

Place: 1 Choke Cherry Road, Conference Room 6-1060, Rockville, Maryland 20852.

Contact: Dianne McSwain, M.S.W., Executive Secretary, SAMHSA CMHS National Advisory Council, 1 Choke Cherry Rd., Rm. 6-1063, Rockville, Maryland 20857, Telephone: (240) 276-1828, E-mail: dianne.mcswain@samhsa.hhs.gov.

Dated: August 7, 2007.
Toian Vaughn,
Committee Management Officer, Substance Abuse and Mental Health Services Administration.

[FR Doc. E7-15791 Filed 8-10-07; 8:45 am]

BILLING CODE 4162-20-P